DEPARTMENT OF TRANSPORTATION

Federal Aviation Administration

14 CFR Part 39

[Docket No. FAA-2019-0319; Product Identifier 2019-NM-005-AD]

RIN 2120-AA64

Airworthiness Directives; Airbus SAS Airplanes

AGENCY: Federal Aviation Administration (FAA), DOT.

ACTION: Notice of proposed rulemaking (NPRM).

SUMMARY: We propose to supersede Airworthiness Directive (AD) 2002-07-05, which applies to all Airbus Model A300 B2, A300 B4, A300 B4-600, and A300 B4-600R series airplanes, and Model A300 F4-605R airplanes. AD 2002-07-05 requires repetitive inspections for cracking of certain fittings, corrective action if necessary, and, for certain airplanes, a modification. AD 2002-07-05 also provides an optional terminating action for the repetitive inspections. Since we issued AD 2002-07-05, we determined that, for certain airplanes, the existing inspection compliance times were not sufficient to address the unsafe condition and needed to be reduced. This proposed AD would require repetitive inspections for cracking of certain fittings, corrective actions if necessary, and, for certain airplanes, a modification, as specified in an European Aviation Safety Agency (EASA) AD, which will be incorporated by reference. We are proposing this AD to address the unsafe condition on these products.

DATES: We must receive comments on this proposed AD by June 24, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the incorporation by reference (IBR) material described in the “Related IBR material under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0319; or in person at Docket Operations between 9 a.m. and 5 p.m., Monday through Friday, except Federal holidays. The AD docket contains this NPRM, the regulatory evaluation, any comments received, and other information. The street address for Docket Operations (telephone 800-647-5527) is in the ADDRESSES section. Comments will be available in the AD docket shortly after receipt.

FOR FURTHER INFORMATION CONTACT: Dan Rodina, Aerospace Engineer, International Section, Transport Standards Branch, FAA, 2200 South 216th St., Des Moines, WA 98198; telephone and fax 206-231-3225.

SUPPLEMENTARY INFORMATION:

Comments Invited

We invite you to send any written relevant data, views, or arguments about this proposal. Send your comments to an address listed under the ADDRESSES section. Include “Docket No. FAA-2019-0319; Product Identifier 2019-NM-005-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2002-07-05, Amendment 39-12699 (67 FR 16983, April 9, 2002) (“AD 2002-07-05”), for all Airbus Model A300 B2, A300 B4, A300 B4-600, and A300 B4-600R series airplanes, and Model A300 F4-605R airplanes. AD 2002-07-05 requires repetitive inspections for cracking of certain fittings, corrective action if necessary, and, for certain airplanes, a modification. AD 2002-07-05 also provides an optional terminating action for the repetitive inspections. AD 2002-07-05 resulted from reports of cracked frame (FR) 40 aft fittings at stringer 33 on the left and right sides of the fuselage. The cracking has been attributed to local stress concentrations at the upper flange runout of FR40. We issued AD 2002-07-05 to address propagation of cracks on the FR40 aft fittings due to local stress concentrations at the upper flange runout of FR40, which could result in reduced structural integrity of the airplane.

Actions Since AD 2002-07-05 Was Issued

Since we issued AD 2002-07-05, we determined that, for certain airplanes, the existing inspection compliance times were not sufficient to address the unsafe condition and needed to be reduced.

The EASA, which is the Technical Agent for the Member States of the European Union, has issued EASA AD 2019-0011R1, dated February 22, 2019 (“EASA AD 2019-0011R1”) (also referred to as the Mandatory Continuing Airworthiness Information, or “the MCAI”), to correct an unsafe condition for all Airbus SAS Model A300 series airplanes; Model A300 B4-600 series airplanes; Model A300 B4-600R series airplanes; and Model A300 C4-605R Variant F airplanes; and certain Model A300 F4-605R airplanes. The MCAI states:

After embodiment of Airbus SB [service bulletin] A300-53-0161, cracks were reported on three aeroplanes. Investigations highlighted that these cracks were caused by a local stress concentration at FR40 upper flange run-out, where the profile of the FR40 changes at the centre wing box connection.

This condition, if not detected and corrected, could affect the structural integrity of the aeroplane.

Subsequently to this finding, Airbus established a High Frequency Eddy Current (HFEC) inspection program for A300 aeroplanes implemented in service through Airbus SB A300-53-0296. In the same time, Airbus launched mod. 10430 in production line associated to SB A300-53-6048 for the retrofit campaign for A300-600. The same HFEC inspection program was defined for A300-600 aeroplanes and included in SB A300-53-6048 instructions.

[Direction Generale de l'Aviation Civile] DGAC France AD F-1998-481-270 [which corresponds to FAA AD 2002-07-05] was published to mandate the embodiment of these two SBs.

DGAC France AD F-2000-038-032 was also published later to mandate Airbus SB A300-53-9017 applicable to A300-600ST aeroplanes.

Since DGAC France AD F-1998-481-270 and F-2000-038-032 were issued, material data used in the frame of fatigue and damage tolerance analysis has been changed. It was determined that the existing threshold and interval values must be reduced for A300-600 and A300-600ST fleet. Consequently, Airbus revised SB A300-53-6048 to Revision 05 and SB A300-53-9017 to Revision 02 to take into account the new thresholds and intervals.

For the reasons described above, this [EASA] AD retains the requirement of DGAC France AD F-1998-481-270R2 and F-2000-038-032R1, which are superseded, and introduces new thresholds and intervals for A300-600 and A300-600ST aeroplanes.

This [EASA] AD is revised to correct a typo in the Applicability, introduces Tables 1a and 1b, replacing original Table 1, to clarify inspection compliance times, and removes Note 1. This revised [EASA] AD also grants credit for actions accomplished using previous revisions of the applicable SB.

For the Model A300-600 airplanes (Model A300 B4-600 series airplanes; Model A300 B4-600R series airplanes; Model A300 C4-605R Variant F airplanes; and Model A300 F4-605R airplanes) that are pre-modification 10430, the initial compliance time is before 7,700 total flight cycles. For the Model A300-600 airplanes that are post-modification 10430, the initial compliance time is before 21,100 total flight cycles. For Model A300 series airplanes, the initial compliance time is between 10,500 total flight cycles and 14,000 total flight cycles, depending on configuration.

Explanation of Retained Requirements

Although this proposed AD does not explicitly restate the requirements of AD 2002-07-05, this proposed AD would retain certain requirements of AD 2002-07-05. Those requirements are referenced in EASA AD 2019-0011R1, which, in turn, is referenced in paragraph (g) of this proposed AD.

Explanation of Change to Terminating Action

Paragraph (e) of AD 2002-07-05 states that accomplishment of the modification specified in Airbus Service Bulletin A300-57-6053, Revision 1, dated October 31, 1995; or Revision 02, dated June 2, 1999; or Airbus Service Bulletin A300-53-0297, Revision 2, dated October 31, 1995; terminates the requirements of AD 2002-07-05. However, EASA AD 2019-0011R1 does not include terminating action. Therefore, this proposed AD would not include that terminating action.

Explanation of Change to Credit Service Information

Note 2 of AD 2002-07-05 provides credit for actions accomplished using Airbus Service Bulletin A300-53-6048, dated January 16, 1996. However, EASA AD 2019-0011R1 does not include credit for Airbus Service Bulletin A300-53-6048, dated January 16, 1996. Therefore, this proposed AD would not include that credit.

Related IBR Material Under 1 CFR Part 51

EASA AD 2019-0011R1 describes procedures for modifying the profile of the FR40 aft fittings for certain airplanes, repetitive HFEC inspections for cracking of certain fittings, corrective actions for any cracking found, and reporting inspections findings. This material is reasonably available because the interested parties have access to it through their normal course of business or by the means identified in the ADDRESSES section, and it is publicly available through the EASA website.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2019-0011R1 described previously, as incorporated by reference, except for any differences identified as exceptions in the regulatory text of this AD. This proposed AD also would require sending the inspection results to Airbus SAS.

Explanation of Required Compliance Information

In the FAA's ongoing efforts to improve the efficiency of the AD process, the FAA worked with Airbus and EASA to develop a process to use certain EASA ADs as the primary source of information for compliance with requirements for corresponding FAA ADs. As a result, EASA AD 2019-0011R1 will be incorporated by reference in the FAA final rule. This proposed AD would, therefore, require compliance with the provisions specified in EASA AD 2019-0011R1, except for any differences identified as exceptions in the regulatory text of this proposed AD. Service information specified in EASA AD 2019-0011R1 that is required for compliance with EASA AD 2019-0011R1 will be available on the internet http://www.regulations.gov by searching for and locating Docket No. FAA-2019-0319 after the FAA final rule is published.

Costs of Compliance

We estimate that this proposed AD affects 66 airplanes of U.S. registry. We estimate the following costs to comply with this proposed AD:

Estimated Costs for Required Actions *
Action | Labor cost | Parts cost | Cost per product | Cost on U.S. operators
Retained actions from AD 2002-07-05 | Up to 102 work-hours × $85 per hour = $8,670 | $874 | Up to $9,544 | Up to $629,904.
New proposed actions | Up to 37 work-hours × $85 per hour = $3,145 | 2,550 | Up to $5,695 | Up to $375,870.
* Table does not include estimated costs for reporting.

We estimate that it would take about 1 work-hour per product to comply with the proposed reporting requirement in this proposed AD. The average labor rate is $85 per hour. Based on these figures, we estimate the cost of reporting the inspection results on U.S. operators to be $5,610, or $85 per product.

We have received no definitive data that would enable us to provide cost estimates for the on-condition action specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this NPRM is 2120-0056. The paperwork cost associated with this NPRM has been detailed in the Costs of Compliance section of this document and includes time for reviewing instructions, as well as completing and reviewing the collection of information. Therefore, all reporting associated with this NPRM is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-07-05, Amendment 39-12699 (67 FR 16983, April 9, 2002), and adding the following new AD:

Airbus SAS: Docket No. FAA-2019-0319; Product Identifier 2019-NM-005-AD.

(a) Comments Due Date

We must receive comments by June 24, 2019.

(b) Affected ADs

This AD replaces 2002-07-05, Amendment 39-12699 (67 FR 16983, April 9, 2002) (“AD 2002-07-05”).

(c) Applicability

This AD applies to Airbus SAS Model airplanes specified in paragraphs (c)(1) through (c)(5) of this AD, certificated in any category, as identified in European Aviation Safety Agency (EASA) AD 2019-0011R1, dated February 22, 2019 (“EASA AD 2019-00R1”).

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 C4-605R Variant F airplanes.

(5) Model A300 F4-605R airplanes.

(d) Subject

Air Transport Association (ATA) of America Code 53, Fuselage.

(e) Reason

This AD was prompted by reports of cracked frame (FR) 40 aft fittings at stringer 33 on the left and right sides of the fuselage, and a determination that the existing inspection compliance times were not sufficient to address the unsafe condition and needed to be reduced. We are issuing this AD to address propagation of cracks on the FR40 aft fittings due to local stress concentrations at the upper flange runout of FR40, which could result in reduced structural integrity of the airplane.

(f) Compliance

Comply with this AD within the compliance times specified, unless already done.

(g) Requirements

Except as specified in paragraph (h) of this AD: Comply with all required actions and compliance times specified in, and in accordance with, EASA AD 2019-0011R1.

(h) Exceptions to EASA AD 2019-0011R1

(1) For purposes of determining compliance with the requirements of this AD: Where EASA AD 2019-0011R1 refers to its effective date, or February 6, 2019 (the effective date of EASA AD 2019-0011, dated January 23, 2019) this AD requires using the effective date of this AD.

(2) The “Remarks” section of EASA AD 2019-0011R1 does not apply to this AD.

(3) Paragraphs (7) and (8) of EASA AD 2018-0011R1 specify to report inspection results to Airbus within a certain compliance time. For this AD, report inspection results at the applicable time specified in paragraph (h)(3)(i) or (h)(3)(ii) of this AD.

(i) If the inspection was done on or after the effective date of this AD: Submit the report within 30 days after the inspection.

(ii) If the inspection was done before the effective date of this AD: Submit the report within 30 days after the effective date of this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2002-07-05 are approved as AMOCs for the corresponding provisions of EASA AD 2019-0011R1 that are required by paragraph (g) of this AD.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0011R1 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(j) Related Information

(1) For information about EASA AD 2019-0011R1, contact EASA, Konrad-Adenauer-Ufer 3, 50668 Cologne, Germany; telephone +49 221 89990 6017; email ADs@easa.europa.eu; internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0011R1 may be found in the AD docket on the internet at http://www.regulations.gov by searching for and locating Docket No. FAA-2019-0319.

(2) For more information about this AD, contact Dan Rodina, Aerospace Engineer, International Section, Transport Standards Branch, FAA, 2200 South 216th St., Des Moines, WA 98198; telephone and fax 206-231-3225.

Issued in Des Moines, Washington, on May 1, 2019.
Michael Kaszycki,
Acting Manager, System Oversight Division, Aircraft Certification Service.

[FR Doc. 2019-09441 Filed 5-8-19; 8:45 am]

BILLING CODE 4910-13-P